DEPARTMENT OF HEALTH AND HUMAN SERVICES

Centers for Medicare and Medicaid Services

[Document Identifier: CMS-R-131]

Agency Information Collection Activities: Submission for OMB Review; Comment Request

AGENCY: Centers for Medicare and Medicaid Services.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Advanced Beneficiary Notice and Supporting Regulations in 42 CFR 411.404, 411.406, and 411.408; Form No.: CMS-R-131 (OMB# 0938-0566); Use: Physicians, practitioners, suppliers, and providers furnishing Part A or Part B items or services may bill a patient for items of services denied by Medicare as not reasonable and necessary, under Medicare program standards (section 1862(a)(1) of title XVIII of the Social Security Act (the Act), or under one of several other statutory bases (section 1862(a)(9), section 1814(a)(2)(C), section 1835(a)(2)(A), section 1861(dd)(3)(A), section 1834(j)(1), section 1834(a)(15), and section 1834(a)(17)(B) of the Act), if they informed the patient , prior to furnishing the items or services and the patient, after being so informed, agreed to pay for the items or services; Frequency: As-needed; Affected Public: Business or other for-profit, not-for-profit institutions, and individuals or households; Number of Respondents: 1,084,932; Total Annual Responses: 21,171,480; Total Annual Hours: 1,764,290.

To obtain copies of the supporting statement and any related forms for the proposed paperwork collections referenced above, access CMS Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503. Fax: (202) 395-6929.

Dated: April 1, 2004.
Melissa Musotto,
Acting Paperwork Reduction Act Team Leader, CMS Reports Clearance Officer, Office of Strategic Operations and Strategic Affairs, Division of Regulations Development and Issuances.

[FR Doc. 04-8095 Filed 4-8-04; 8:45 am]

BILLING CODE 4120-03-P